DEPARTMENT OF HOUSING AND URBAN DEVELOPMENT

[Docket No. FR-5480-N-74]

Notice of Submission of Proposed Information Collection to OMB; Notice of Funding Availability for the Transformation Initiative: Sustainable Construction in Indian Country Grant Program

AGENCY: Office of the Chief Information Officer, HUD.

ACTION: Notice.

SUMMARY: The proposed information collection requirement described below has been submitted to the Office of Management and Budget (OMB) for review, as required by the Paperwork Reduction Act. The Department is soliciting public comments on the subject proposal.

HUD invites applicants to submit proposals for funding to develop, deploy, and disseminate methods of sustainable construction suitable for use in Native American housing. HUD is looking for applications on curriculum development/training and information dissemination related to sustainable construction in four broad areas: Moisture management, retrofit strategies, home performance verification, and sustainable construction fundamentals.

DATES: Comments Due Date: September 2, 2011.

ADDRESSES: Interested persons are invited to submit comments regarding this proposal. Comments should refer to the proposal by name and/or OMB approval Number (2528—Pending) and should be sent to: HUD Desk Officer, Office of Management and Budget, New Executive Office Building, Washington, DC 20503; e-mail OIRA-Submission@omb.eop.gov; fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Notice of Funding Availability for the Transformation Initiative: Sustainable Construction in Indian Country Grant Program.

OMB Approval Number: 2528—Pending.

Form Numbers: None.

Description of the Need for the Information and Its Proposed Use: HUD invites applicants to submit proposals for funding to develop, deploy, and disseminate methods of sustainable construction suitable for use in Native American housing. HUD is looking for applications on curriculum development/training and information dissemination related to sustainable construction in four broad areas: Moisture management, retrofit strategies, home performance verification, and sustainable construction fundamentals.

Frequency of Submission: On occasion.

| Number of respondents | Annual responses | × | Hours per response | = | Burden hours
Reporting Burden | 20 | 2 |  | 24.5 |  | 980

Total Estimated Burden Hours: 980.

Status: New collection.

Authority: Section 3507 of the Paperwork Reduction Act of 1995, 44 U.S.C. 35, as amended.

Dated: July 27, 2011.
Colette Pollard,
Departmental Reports Management Officer, Office of the Chief Information Officer.

[FR Doc. 2011-19586 Filed 8-2-11; 8:45 am]

BILLING CODE 4210-67-P